DEPARTMENT OF DEFENSE

Department of the Air Force

[PRS266]

Notice of Intent To Grant an Exclusive Patent License

AGENCY: Department of the Air Force, Department of Defense.

ACTION: Notice of intent to grant an exclusive patent license.

SUMMARY: Pursuant to the Bayh-Dole Act and implementing regulations, the Department of the Air Force hereby gives notice of its intent to grant an exclusive patent license to ColdQuanta, Inc., a Delaware corporation dba Infleqtion, having a place of business at 3030 Sterling Cir., Boulder, CO 80301-2338.

DATES: Written objections must be filed no later than fifteen (15) calendar days after the date of publication of this Notice.

ADDRESSES: Submit written objections to Sara Telano, AFRL/RDOX, Technology Transfer Office, 3550 Aberdeen Avenue, Kirtland AFB, New Mexico 87117-5776; Telephone: 850-331-8635; Email: sara.telano@us.af.mil. Include Docket No. PRS266 in the subject line of the message.

FOR FURTHER INFORMATION CONTACT: Melissa Ortiz, AFRL/RDOX, Technology Transfer Office, 3550 Aberdeen Avenue, Kirtland AFB, New Mexico 87117-5776; Telephone: 505-288-0475; Email: melissa.ortiz.1.ctr@us.af.mil.

SUPPLEMENTARY INFORMATION: The Department of the Air Force intends to grant the exclusive patent license agreement for the invention described in:

BURKE et al., U.S. Patent No. 10,684,591, issued on 16 June 2020 and entitled “Optical Rubidium Atomic Frequency Standard.”

Abstract of Patent Application

An optical atomic clock includes a fiber-coupled electro-optic modulator to phase modulate and suppress residual amplitude modulation of a frequency-doubled laser; a rubidium-enriched vapor cell configured to perform a two-photon transition of rubidium atoms to generate a fluorescence signal from the laser; and a differential lock mechanism to stabilize a frequency of the fluorescence signal to a resonance frequency of the two-photon transition of the rubidium atoms.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR part 404.

Tommy W. Lee,
Acting Air Force Federal Register Liaison Officer.

[FR Doc. 2025-12288 Filed 6-30-25; 8:45 am]

BILLING CODE 3911-44-P